FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 31, 2018.

A. Federal Reserve Bank of Chicago (Colette A. Fried, Assistant Vice President) 230 South LaSalle Street, Chicago, Illinois 60690-1414:

1. Lincoln Bancorp Employee Stock Ownership Plan, Reinbeck, Iowa, with John Michael Maier, Milwaukee, Wisconsin, as trustee of the ESOP; to retain shares of Lincoln Bancorp, Reinbeck, Iowa, and thereby indirectly retain Lincoln Savings Bank, Cedar Falls, Iowa.

B. Federal Reserve Bank of Dallas (Robert L. Triplett III, Senior Vice President) 2200 North Pearl Street, Dallas, Texas 75201-2272:

1. Evan Katz, Michael Helfer, the Evan H. Katz 2018 Dynasty Trust, the Evan H. Katz 2018 Irrevocable Trust, the Lissy Katz Bank 2018 Dynasty Trust, and the Lissy Katz Bank 2018 Irrevocable Trust, all of Houston, Texas, individually and acting in concert; to acquire voting shares of First Community Bancshares, Inc., and thereby indirectly acquire Fort Hood National Bank and First National Bank Texas d/b/a First Convenience Bank, all of Killeen, Texas.

Board of Governors of the Federal Reserve System, December 6, 2018.
Yao-Chin Chao,
Assistant Secretary of the Board.

[FR Doc. 2018-26808 Filed 12-11-18; 8:45 am]

BILLING CODE P